DEPARTMENT OF TRANSPORTATION

Federal Railroad Administration

[Docket Number FRA-2012-0056]

Petition for Amending Waiver of Compliance

In accordance with Part 211 of Title 49 Code of Federal Regulations (CFR), this document provides the public notice that by a letter dated April 10, 2014, the NJ Transit Rail Operation (NJTR) has petitioned the Federal Railroad Administration (FRA) for an extension of a waiver granted in Docket Number FRA-2012-0056 on January 15, 2013, that provided relief from certain provisions of the Federal railroad safety regulations contained at 49 CFR part 242, Qualification and Certification of Conductors, for a period of 5 years. The requested waiver extension will align the effective periods of the companion waiver granted in Docket Number FRA-2009-0096 for 49 CFR 240, Qualification and Certification of Locomotive Engineers, with the instant waiver in FRA-2012-0056, both of which are contingent on the railroad's continued participation in the Confidential Close Call Reporting System (C3RS) pilot project.

The April 10, 2014, letter provides the current IMOU dated June 11, 2009, and all subsequent amendments that govern the C3RS pilot program will be modified and replaced. The new IMOU is dated August 20, 2014, and is based on a revised template provided by the FRA. The new IMOU provides similar provisions to those of the current IMOU with three changes:

1. The addition of Article 3.2 will extend protections to tenant locomotive engineers and conductors in tenant/host operations on the NJTR system.

2. Article 6.4 will permit relief for all covered events under the FRA Reporting threshold pursuant with 49 CFR Part 225, Railroad Accidents/Incidents: Reports Classification, and Investigation.

3. The National Aeronautics and Space Administration will replace the Bureau of Transportation Statistics as the third participating party.

NJTR; the Brotherhood of Locomotive Engineers and Trainmen, and Sheet Metal, Air, Rail and Transportation Workers Transportation Division seek to shield the reporting employees and the railroad from punitive sanctions that would otherwise arise as provided in selected sections of 49 CFR 242.403, Criteria for revoking certification, to encourage locomotive engineer reporting of close calls and protect locomotive engineers and NJTR from discipline or sanctions arising from the incidents reported pursuant to the new IMOU.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within October 14, 2014 of the date of this notice will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on September 4, 2014.
Ron Hynes,
Director, Office of Technical Oversight.

[FR Doc. 2014-21615 Filed 9-10-14; 8:45 am]

BILLING CODE 4910-06-P